DEPARTMENT OF EDUCATION

RIN 1820-ZA12

Recreational Programs

AGENCY: Office of Special Education and Rehabilitative Services, Department of Education.

ACTION: Notice of final priority.

SUMMARY: The Assistant Secretary for the Office of Special Education and Rehabilitative Services announces a final priority under the Recreational Programs. The Assistant Secretary may use this priority for competitions in FY 2001 and later years. We take this action to provide individuals with disabilities recreational activities and related experiences to aid in their employment, mobility, socialization, independence, and community integration.

EFFECTIVE DATE: This priority is effective May 21, 2001.

FOR FURTHER INFORMATION CONTACT: Mary E. Chambers, U.S. Department of Education, 400 Maryland Avenue, SW., room 3320, Switzer Building, Washington, DC 20202-2649. Telephone: (202) 205-8435 or via Internet: Mary.Chambers@ed.gov

If you use a telecommunications device for the deaf (TDD) you may call the Federal Information Relay Service (FIRS) at 1-800-877-8399.

Individuals with disabilities may obtain this document in an alternative format (e.g., Braille, large print, audiotape, or computer diskette) on request to the contact person listed under FOR FURTHER INFORMATION CONTACT.

SUPPLEMENTARY INFORMATION:

This notice contains a final priority under the Recreational Programs, which is authorized under section 305 of the Rehabilitation Act of 1973, as amended (the Act). On January 8, 2001 we published a notice of proposed priority for this program in the Federal Register (66 FR 1442). There are no differences between the notice of proposed priority and this notice of final priority.

Analysis of Comments and Changes

In response to our invitation in the notice of proposed priority 15 parties submitted comments on the proposed priority. Twelve commenters supported the priority. An analysis of the substantive comments and of any changes in the priority since publication of the notice of proposed priority follows.

Comment: One commenter recommended that independent living skills and related services and opportunities be added to the list of optional services under the Recreational Programs.

Discussion: Section 305 of the Act supports projects that provide individuals with disabilities recreational activities and related experiences that aid in their employment, mobility, socialization, independence, and community integration. The proposed priority stated that recreational services include, but are not limited to, the activities authorized by the program statute. Thus, because the examples of recreational activities provided in the proposed priority were not inclusive of the recreational activities allowable under this program authority, independent living skills and related activities are also allowable.

Change: None.

Comments: Two commenters recommended that the Recreational Programs be available to children to experience scouting activities, hydrotherapy/aquatics, and other recreational activities.

Discussion: According to 34 CFR 361.42(c)(2)(ii)(A), States must apply the eligibility requirements for vocational rehabilitation services without regard to the age of the applicant. However, according to 34 CFR 361.42(a)(2), there is also a presumption in the Act that the applicant can benefit in terms of an employment outcome from the provision of vocational rehabilitation services. In order for a client to benefit in terms of an employment outcome, the age of a client must be appropriate. Therefore, the burden is on the applicant to identify how any children to be served would benefit in terms of an employment outcome from the recreational services to be provided by the applicant.

Change: None.

Note: This notice does not solicit applications. In any year in which we choose to use this priority, we invite applications through a notice in the Federal Register.

Priority

Under 34 CFR 75.105(c)(3) the Assistant Secretary gives an absolute preference to applications that meet the following priority. The Assistant Secretary funds under this competition only applications that meet this absolute priority.

Projects must provide recreational services to individuals with disabilities. Recreational services include, but are not limited to, vocational skills development, leisure education, leisure networking, leisure resource development, physical education and sports, scouting and camping, 4-H activities, music, dancing, handicrafts, art, and homemaking. Recreational services do not include the construction of facilities for aquatic rehabilitation therapy.

Projects must provide recreational services to individuals with disabilities in settings with peers who are not individuals with disabilities.

Statutory Requirements

All applicants seeking funding under this competition must—

(a) Describe the manner in which the applicant will address the needs of individuals with disabilities from minority backgrounds (section 21(c) of the Act);

(b) Describe the manner in which the findings and results of the project to be funded under the grant, particularly information that facilitates the replication of the results of that project, will be made generally available (section 305(a)(4)(A) of the Act);

(c) Demonstrate ways in which recreational activities assist in maximizing the independence and integration of individuals with disabilities into community-based recreational programs (section 305(a)(1)(C) if the Act);

(d) Assure that the project will maintain, at a minimum, the same level of services over the three-year project period (section 305(a)(5) of the Act);

(e) Assure that the service program funded under the grant will be continued after Federal assistance ends (section 305(a)(4)(B) of the Act); and

(f) Provide non-Federal resources (in cash or in-kind) to pay the non-Federal share cost of the project in year two at 25 percent of year one Federal grant and year three at 50 percent of year one Federal grant (section 305(a)(3)(B) of the Act).

National Education Goals

The eight National Education Goals focus the Nation's education reform efforts and provide a framework for improving teaching and learning.

This priority addresses the National Education Goal that every American will possess the knowledge and skills necessary to compete in a global economy.

Executive Order 12866

This notice of final priority has been reviewed in accordance with Executive Order 12866. Under the terms of the order we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the final priority justify the costs.

We have also determined that this regulatory action does not unduly interfere with State, local, and tribal governments in the exercise of their governmental functions.

We fully discussed the costs and benefits in the notice of proposed priority.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site:

www.ed.gov/legislation/FedRegister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at:

http://www.access.gpo.gov/nara/index.html

Program Authority: 29 U.S.C. 775.

(Catalog of Federal Domestic Assistance Number 84.128J Recreational Programs.)
Dated: April 13, 2001
Francis V. Corrigan,
Deputy Director, National Institute on Disability, and Rehabilitation Research.

[FR Doc. 01-9653 Filed 4-18-01; 8:45 am]

BILLING CODE 4000-01-P